DEPARTMENT OF HOMELAND SECURITY

U.S. Customs and Border Protection

DEPARTMENT OF THE TREASURY

19 CFR Part 12

[CBP Dec. 20-03]

RIN 1515-AE52

Import Restrictions Imposed on Archaeological and Ethnological Material From Ecuador

AGENCY: U.S. Customs and Border Protection, Department of Homeland Security; Department of the Treasury.

ACTION: Final rule.

SUMMARY: This final rule amends the U.S. Customs and Border Protection (CBP) regulations to reflect the imposition of import restrictions on certain archaeological and ethnological material from Ecuador. These restrictions are being imposed pursuant to an agreement between the United States and Ecuador that has been entered into under the authority of the Convention on Cultural Property Implementation Act. The final rule amends CBP regulations by adding Ecuador to the list of countries which have a bilateral agreement with the United States that imposes cultural property import restrictions. The final rule also contains the designated list that describes the types of archaeological and ethnological material to which the restrictions apply.

DATES: Effective February 12, 2020.

FOR FURTHER INFORMATION CONTACT: For legal aspects, Lisa L. Burley, Chief, Cargo Security, Carriers and Restricted Merchandise Branch, Regulations and Rulings, Office of Trade, (202) 325-0300, ot-otrrculturalproperty@cbp.dhs.gov. For operational aspects, Genevieve S. Dozier, Management and Program Analyst, Commercial Targeting and Analysis Center, Trade Policy and Programs, Office of Trade, (202) 945-2942, CTAC@cbp.dhs.gov.

SUPPLEMENTARY INFORMATION:

Background

The Convention on Cultural Property Implementation Act, Public Law 97-446, 19 U.S.C. 2601 et seq. (“the Cultural Property Implementation Act”) implements the 1970 United Nations Educational, Scientific and Cultural Organization (UNESCO) Convention on the Means of Prohibiting and Preventing the Illicit Import, Export and Transfer of Ownership of Cultural Property (hereinafter, “the Convention” (823 U.N.T.S. 231 (1972))). Pursuant to the Cultural Property Implementation Act, the United States entered into a bilateral agreement with Ecuador to impose import restrictions on certain Ecuadorean archaeological and ethnological material. This rule announces that the United States is now imposing import restrictions on certain archaeological and ethnological material from Ecuador.

Determinations

Under 19 U.S.C. 2602(a)(1), the United States must make certain determinations before entering into an agreement to impose import restrictions under 19 U.S.C. 2602(a)(2). On October 19, 2018, the Assistant Secretary for Educational and Cultural Affairs, United States Department of State, after consultation with and recommendation by the Cultural Property Advisory Committee, made the determinations required under the statute with respect to certain archaeological and ethnological material originating in Ecuador that are described in the designated list set forth below in this document.

These determinations include the following: (1) That the cultural patrimony of Ecuador is in jeopardy from the pillage of archaeological or ethnological material representing Ecuador's cultural heritage dating from approximately 12,000 B.C. up to 250 years old, including material starting in the Pre-ceramic period and going into the Colonial period (19 U.S.C. 2602(a)(1)(A)); (2) that the Ecuadorean government has taken measures consistent with the Convention to protect its cultural patrimony (19 U.S.C. 2602(a)(1)(B)); (3) that import restrictions imposed by the United States would be of substantial benefit in deterring a serious situation of pillage and remedies less drastic are not available (19 U.S.C. 2602(a)(1)(C)); and (4) that the application of import restrictions as set forth in this final rule is consistent with the general interests of the international community in the interchange of cultural property among nations for scientific, cultural, and educational purposes (19 U.S.C. 2602(a)(1)(D)). The Assistant Secretary also found that the material described in the determinations meets the statutory definition of “archaeological or ethnological material of the State Party” (19 U.S.C. 2601(2)).

The Agreement

On May 22, 2019, the United States and Ecuador entered into a bilateral agreement, “Memorandum of Understanding between the Government of the United States of America and the Government of the Republic of Ecuador Concerning the Imposition of Import Restrictions on Categories of Archaeological and Ethnological Material of Ecuador” (“the Agreement”), pursuant to the provisions of 19 U.S.C. 2602(a)(2). The Agreement enables the promulgation of import restrictions on categories of archaeological and ethnological material representing Ecuador's cultural heritage that are at least 250 years old, dating as far back as the Pre-ceramic period (approximately 12,000 B.C.) through the Formative, Regional development, Integration, and Inka periods and into the Colonial period. A list of the categories of archaeological and ethnological material subject to the import restrictions is set forth later in this document.

Restrictions and Amendment to the Regulations

In accordance with the Agreement, importation of material designated below is subject to the restrictions of 19 U.S.C. 2606 and § 12.104g(a) of title 19 of the Code of Federal Regulations (19 CFR 12.104g(a)) and will be restricted from entry into the United States unless the conditions set forth in 19 U.S.C. 2606 and § 12.104c of the CBP regulations (19 CFR 12.104c) are met. CBP is amending § 12.104g(a) of the CBP Regulations (19 CFR 12.104g(a)) to indicate that these import restrictions have been imposed.

Import restrictions listed at 19 CFR 12.104g(a) are effective for no more than five years beginning on the date on which the Agreement enters into force with respect to the United States. This period may be extended for additional periods of not more than five years if it is determined that the factors which justified the Agreement still pertain and no cause for suspension of the Agreement exists. Pursuant to the MOU, the import restrictions entered into force upon delivery of the U.S. diplomatic note to Ecuador on May 22, 2019. Therefore, the import restrictions will expire on May 22, 2024, unless extended.

Designated List of Archaeological and Ethnological Material of Ecuador

The Agreement includes, but is not limited to, the categories of objects described in the designated list set forth below. Importation of material on this list is restricted unless the material is accompanied by documentation certifying that the material left Ecuador legally and not in violation of the export laws of Ecuador.

The designated list includes archaeological and ethnological material. Archaeological material of ceramic, stone, metal, and organic tissue ranges in date from approximately 12,000 B.C. to A.D. 1769, which is 250 years from the signing of the Agreement. Ethnological material includes Colonial period ecclesiastical paintings, sculpture, furniture, metalwork, textiles, documents, and manuscripts. In addition, ethnological material includes secular Colonial period paintings, documents, and manuscripts.

Additional Resource

National Institute of Cultural Patrimony, Ecuador, Guía de identificación de bienes culturales patrimoniales (Guide for identification of cultural patrimony goods) (2d ed. 2011), http://patrimoniocultural.gob.ec/guia-de-identificacion-de-bienes-culturales-patrimoniales/.

Categories of Materials

I. Archaeological Material

A. Stone

B. Ceramic

C. Metal

D. Bone, Shell, and Other Organic Tissue

II. Ethnological Material

A. Paintings

B. Sculpture

C. Furniture

D. Metalwork

E. Textiles

F. Documents and Manuscripts

I. Archaeological Material

Archaeological material covered by the Agreement is associated with the diverse cultural groups that resided in this region from the earliest human settlement of the Pre-ceramic period and into the Colonial period (approximately 12,000 B.C. to A.D. 1769).

Approximate Chronology of Well-Known Archaeological Styles

(a) Pre-ceramic period: El Cubilán (12,606 B.C.), Montequinto (11,858 B.C.), Las Mercedes (11,500 B.C.), El Inga (11,000 B.C.), Guagua Canoayacu (9905 B.C.), Gran Cacao (9386 B.C.), Chobshi (9000-6500 B.C.), and Las Vegas (8800-4500 B.C.).

(b) Formative period: Valdivia (3800-1500 B.C.), Mayo Chinchipe (3000-2000 B.C.), Cerro Narrio (2000-400 B.C.), Cotocollao (1800-350 B.C.), Machalilla (1600-800 B.C.), and Chorrera (1000-100 B.C.).

(c) Regional development period: La Tolita (600 B.C.-A.D. 400), Tiaone (600 B.C.-A.D. 400), Bahía (500 B.C.-A.D. 650), Cosanga (500 B.C.-A.D. 1532), Jama Coaque I (350 B.C.-A.D. 100), Upano (300 B.C.-A.D. 500), and Guangala (100 B.C.-A.D. 800).

(d) Integration period: Puruhá (A.D. 300-1500), Cañari (A.D. 400-1500), Atacames (A.D. 400-1532), Jama-Coaque II (A.D. 400-1532), Milagro Quevedo (A.D. 400-1532), Manteño-Huancavilca (A.D. 500-1532), Pasto (A.D. 700-1500), Napo (A.D. 1200-1532), and Caranqui (A.D. 1250-1500).

(e) Inka period: A.D. 1470-1532.

(f) Colonial period: A.D. 1532-1822.

A. Stone

Early chipped stone tools mark the appearance of the first people to inhabit the region and continued to be used throughout history. Polished stone axes became common in the Formative period. Highly skilled stoneworkers created elaborately carved mortars, figurines, seats, and other items for use in daily and ceremonial life. Examples of archaeological stone objects covered in the Agreement include the following objects:

1. Chipped stone tools—Projectile points and tools for scraping, cutting, or perforating are made primarily from basalt, quartzite, chert, chalcedony, or obsidian and are 5-8 cm long.

2. Polished stone tools—Axes or hoes are typically made in basalt or andesite and are about 12 cm long and 8-9 cm wide with a cutting edge on one end and a flat or slightly grooved edge with “ears” on the other side to attach a handle. Some axes have a hole used to attach the handle with cord. Ceremonial axes are highly polished and lack use marks. Hooks, in the shape of small anvils or birds, and weights for spear-throwers (i.e., atlatls) are made from quartzite, chalcedony, and serpentine. Mace heads and stone shields are made from polished stone.

3. Receptacles—Polished stone bowls may be undecorated or decorated with incisions or notches about 10-20 cm in diameter. Mortars made from volcanic rock may be undecorated or carved in the shape of animals, including felines (e.g., Valdivia style mortars).

4. Ornaments—Beads are made of quartz, turquoise, and other stone. Round or oval obsidian mirrors are relatively thin with one unworked side and one polished side. Earrings and ear plugs are made from quartz or obsidian.

5. Figurines—Valdivia style human figurines are small (3-5 cm tall) and range from simple plaques to detailed three-dimensional statuettes. These figurines are made from calcium carbonate and often combine feminine and masculine attributes. Quitu-Chaupicruz monoliths are stone posts up to 90 cm tall with tapered bases topped with anthropomorphic figures.

6. Sculpture—Terminal Valdivia style rectangular or square plaques and blocks are made of white or gray volcanic tuff or other stone with smooth faces or faces decorated with lines or circles depicting human or avian imagery. Manteño style seats are monolithic sculptures with U-shaped seats resting on zoomorphic, anthropomorphic, or undecorated pedestals on a rectangular base.

B. Ceramic

The earliest-known pottery in Ecuador dates to the Formative period (about 4400 B.C.). Highly skilled potters in the region created diverse and elaborate vessels, figurines, sculptural pottery, musical instruments, and other utilitarian and ceremonial items. Ceramics vary widely between archaeological styles. Decorations include paint (red, black, white, green, and beige) or surface decorations such as incisions, excisions, punctations, combing, fingernail marks, corrugations, modelling, etc. Pre-Columbian vessels are never glazed; shiny surfaces are created only by burnishing. Pre-Columbian potters did not use a pottery wheel, so vessels do not have the regular striations or perfectly spherical shapes characteristic of wheel-made pottery. Examples of archaeological ceramic objects covered in the Agreement include the following objects:

1. Vessels—There are three basic types of vessels: Plates, bowls, and jars. Forms and decoration vary among archaeological styles and over time. Some of the most well-known types are highlighted below.

a. Plates have flat or slightly convex bases, occasionally with annular support. Rims are everted, inverted, or vertical, sometimes with zoomorphic modelled appliqué or masks on the exterior. The interior surface is often painted with geometric, anthropomorphic, or zoomorphic designs (e.g., Carchi style plates). Most Inka style plates from Tomebamba have handles and vertical walls without interior paint and some are flat with handles in the form of a bird or llama. Napo culture platters (fuentes) often have polychrome designs.

b. Bowls and cups may have everted or inverted rims, and they may have annular or polypod bases. Interior and/or exterior decorations may be made with incisions, negative painting, iridescent paint, etc. Bowls with pedestal bases are known as compoteras. Carchi style compoteras have anthropomorphic and zoomorphic negative paint designs. A llipta box or poporo is a very small bowl decorated with incisions or paint in round, zoomorphic, or anthropomorphic shapes. [Note: Llipta is a mixture of lime and/or ash used when chewing coca leaves.] Related to bowls, cups may have everted rims (e.g., Azuay style and Cañar style cups and Inka keros) or inverted rims (e.g., Puruhá style timbales). Milagro-Quevedo style tripod or pedestal bowls known as cocinas de brujos sometimes have handles and are often decorated with modelled reliefs of snake heads, toads, serpents, and nude human figures.

c. Jars are globular vessels with short necks, sometimes with exterior decoration on the entire vessel or only on the upper half. Jars sometimes have feet, usually three. Bottles are a type of jar with a long spout attached to the body by a handle. Some bottles have stirrup handles. Some bottles have an interior mechanism that regulates movement of air and liquid to create a whistling sound. Very large jars are called cántaros. Cántaros have wide mouths and typically have convex or conical bases; in a few cases, bases are flat and small. Carchi style cántaros or botijuelas are ovoid in shape, have long necks, are decorated with red or negative paint, and sometimes have a modelled human face attached to the neck. Puruhá style cántaros are rounder, with bodies covered in negative paint designs and an everted rectilinear neck that is usually decorated with handles and a modelled human face. Chicha jars or tinajas are very large, usually undecorated jars. Funerary urns may be various sizes depending on whether they contained skeletal remains or ashes. There are two types of Napo style funerary urns with polychrome decorations: Large, elongated vessels with a bulge at the base and anthropomorphic, ceramic statues. Inka style aríbalos have long necks with everted rims and bulging bodies with two handles near the base, a modelled zoomorphic knob near the neck, and a pointed base. Imperial style aríbalos have primarily geometric, polychrome painting. Local style aríbalos have the same shape but are roughly made and undecorated.

2. Figurines—Figurine manufacturing was common in pre-Columbian Ecuador. Anthropomorphic figurines are solid or hollow clay with diverse representations of the body. The size of the figurines varies from less than 10 cm tall to statues over 50 cm tall. Some of the best-known types are described below:

a. Valdivia style ceramic “Venus figures” are small, female figurines in fired clay with detailed treatment of the torso and head. Machalilla and Chorrera figures are larger (up to 40 cm) and usually mold-made and decorated with white slip and red painted designs with humans (more often women than men) depicted in the nude with arms by the side or slightly raised.

b. Low-relief, mold-made figurines were common, including Chorrera style figurines in zoomorphic and phytomorphic shapes (e.g., squashes, babacos, monkeys, canines, opossums, felines, and birds).

c. Guangala style and Jama-Coaque style figurines use modeled clay to depict body adornments or clothing of men and women. Bodies and ornaments may be painted black, green, red, or yellow. Jama-Coaque figurines, some up to 30 cm tall, with abundant molded decorations and rich painting depict individuals' occupations and social statuses (e.g., seated shamans with llipta boxes, farmers with bags of seeds and digging sticks, warriors with helmets, spear-throwers and shields, seated jewelry makers with jewels in their laps, hunters carrying or slaughtering their prey, masked figures, dancers with wings or fancy dress, and characters in costumes that indicate privileged status).

d. Figurines from Bahía are generally medium-sized (about 25 cm tall). The “giants of Bahía” are up to 50 cm tall and typically depict shaman figures or elite personages seated cross-legged or standing with elaborate attire, adornment, and headdresses. They often exhibit a necklace adorned with a one to three white tusk-like ornaments.

e. Tolita figurines include individuals of high status and representations of daily life as well as anthropomorphic figures with mammal or bird heads. Tolita style heads and small figures without slip and detailed facial expressions are common. Some hollow heads have perforations and may have been suspended from cords, similar to the tzantzas (shrunken heads) of the Shuar.

f. Manteño style figurines are standardized with polished, black surfaces, almost always standing and with body adornments. There are some seated figures, including Manteño style incense burners depicting men, apparently entranced, with wide plates on their heads and elaborate incisions depicting body tattoos.

g. Carchi coquero figurines depict a seated individual in a hallucinogenic trance with a bulging cheek indicating that the individual is chewing coca. The bulging cheek is also common in Cosanga figurines from Amazonia. Other figurines from Amazonia are rough and their typology is not well known.

3. Musical instruments—During the Integration period, flutes—typically with four finger holes—were common in the northern Sierra. Throughout the coast and highlands, whistles in human or animal form, frequently birds, were common. Ceramic whistles in the form of sea shells (sometimes called ocarinas) are often decorated with geometric, anthropomorphic, and zoomorphic designs.

4. Masks—Human and zoomorphic masks made of clay, shell, and metal with varied facial expressions were common in pre-Columbian Ecuador. Many masks have small holes along the upper edge so that they can be suspended as pectorals. Rectangular, clay plaques depicting humans, sometimes in erotic motifs, have similar holes for suspension.

5. Stamps—Stamps are made from solid clay, including cylindrical roller stamps and flat stamps with a small handle on one side. Low relief geometric designs include stylized anthropomorphic, phytomorphic, and zoomorphic motifs. Small conical clay spindle whorls called torteros or fusaiolas have similar designs and a hole in the middle to be attached to a spindle.

6. Beads—Beads are small round pieces of ceramic with polished edges and a hole in the center.

7. Graters—Graters are long thin plates, often in the shape of a fish, with a concentration of embedded sharp stones on one side for scraping or grating. Some scrapers lack embedded stones but are decorated with deep incisions in the scraping surface. Bowls occasionally contain embedded scraping stones.

8. Neck rests—Bahía style and Jama-Coaque style neck rests, called descansanucas, are made from a slightly concave, rectangular, ceramic slab resting on a pedestal made from a flat slab of the same size supporting columns or a wide pillar in the shape of a house or human face.

9. House models—House models, or maquetas, from the coastal region have slightly concave roofs and walls that rest on a base that contains stairs and, sometimes, human figures guarding the entrance. In some cases, the interior columns supporting the roof are visible. These are typically found in the Jama-Coaque and La Tolita cultures, and many of them are functioning bottle forms used in drinking rituals. In the northern highlands, models of round houses represent typical domestic structures of the region.

C. Metal

Objects of gold, platinum, silver, copper, and tumbaga (an alloy of copper and gold) were common in pre-Columbian Ecuador. Several pre-Columbian cultures practiced metalwork on the coast (e.g., Guangala, Bahía, Jama-Coaque, La Tolita, Manteño and Milagro-Quevedo), in the highlands (e.g., Capulí, Piartal, Puruhá and Cañari), and in Amazonia (e.g., Cosanga). The Inka introduced bronze, an alloy of copper and tin. Metallurgists were skilled at creating alloys and gold- and copper-plating. Objects were made by using melted metal or hammering metal sheets. Parts of compound objects were made separately and assembled mechanically. Examples of archaeological metal objects covered in the Agreement include the following objects:

1. Tools—Chisels are flat copper strips about 7 cm long and are beveled on one end. Copper needles vary in size from 3 to 8 cm long. There are also copper fish hooks, cylindrical punches, and long-handled spoons. Functional copper axes are similar in shape to stone axes. Ceremonial copper axes lack a cutting edge, are sometimes silver plated, and are decorated on both faces in high and low relief, often in geometric designs.

A tumi is a type of axe with a long handle and a semicircular or rectilinear blade. Axe-monies (hachas monedas) are thin, axe-shaped sheets of arsenical copper that are 7-8 cm long and often found in bundles or carefully grouped.

2. Body ornaments—Copper ear piercers may have a hollow handle to facilitate insertion of the post. Gold, silver, and copper crowns and diadems are decorated with engraved or embossed designs. Pre-Columbian people in the region used a wide variety of nose ornaments including oval or circular plates open at the top for insertion into the nasal septum, ornaments with tubular bodies, and scroll or zoomorphic ornaments. Solid or hollow ear ornaments, sometimes with hanging decorations, and labrets are also common. Concave copper disc pectorals with embossed human faces often have holes at the mouth suggesting the existence of a tongue that would have functioned as a rattle. Ornamental clothing pins (tupos or tupus) made of copper, silver, and gold are topped with a circular or semicircular plate. Gold masks are made of embossed thin gold sheets. Some masks are a single piece of gold, others have additional elements such as diadems, pendants, and platinum eyes. Necklaces vary and often combine metal, Spondylus shell, and semi-precious stones.

3. Weapons—Bronze star-shaped mace heads typically have six points. Spear or lance points are made from silver sheets rolled into cones leaving a hole for the shaft. Manteño style spear or lance points have a hollow, cylindrical stem to attach the shaft. Gold and silver helmets were made for high-ranking individuals or ceremonial use.

4. Figurines—Small Inka style figurines depict male, female, and animal figures in solid gold or silver.

D. Bone, Shell, and Other Organic Tissue

Ceremonial use and trade of Spondylus princeps, a bivalve mollusk native to the coastal Pacific Ocean from modern Panama to the Gulf of Guayaquil, began during the Formative period. Although preservation of organic material is poor in most of Ecuador, utilitarian tools, instruments, and body ornaments made in bone, shell, and other materials may be found. Examples of archaeological organic objects covered in the Agreement include the following objects:

1. Tools—Sharp bone awls are made from long bones and are often fired to strengthen them. Various bone tools used for weaving include spatulas, needles, combs, shuttles, pick-up sticks, etc. Ritual long-handled spoons are made from bone. Spoons also are made from shell. Shell fish hooks are 3-5 cm in diameter.

2. Musical instruments—Flutes and whistles with a single finger-hole are made from bone. Large gastropod sea shells (e.g., Strombus sp.) were used as trumpets beginning in Early Valdivia times (around 3000 B.C.).

3. Body ornaments—Ornamental clothing pins (tupos or tupus) made from bone usually are topped with a zoomorphic ornament. Shell bracelets, nose rings, and small earrings are common. Ucuyayas are human figures made from Spondylus shell.

4. Human remains—Skeletal remains, soft tissue, and ash from the human body may be preserved in burials and other contexts.

II. Ethnological Material

Ethnological material covered by the Agreement includes Colonial period ecclesiastical paintings, sculpture, furniture, metalwork, textiles, documents, and manuscripts. In addition, ethnological material includes secular Colonial period paintings, documents, and manuscripts. Quito School artists incorporated into mostly religious art of the Catholic Church particularities of the Andes such as local costumes, indigenous customs, local flora and fauna, and placement within the Andean countryside or cities.

A. Paintings

Colonial period paintings are made on canvas, copper, marble, or wood panels. Pigments are typically made from pulverized minerals mixed with linseed or almond oil. Early 16th-century paintings use muted color palates of reddish browns and grays. By the 18th century, paintings display greater movement, illumination, and color, including intense blues, reds, and greens. Some paintings are decorated with gold leaf rays, stars, or floral designs. Most paintings are anonymous works, but a few are signed. Examples of ethnological paintings covered in the Agreement include, but are not limited to, the following objects:

1. Colonial period ecclesiastical paintings—Ecclesiastical paintings depict religious subjects including Christ, saints, virgins, angels, bishops, popes, and others.

2. Colonial period secular paintings—Secular paintings include landscapes, portraits, allegorical paintings, and casta paintings depicting racial classifications used in the Spanish colonial empire.

B. Sculpture

Ecclesiastical sculpture from the Colonial period includes images of religious content carved in wood during the 16th, 17th, and 18th centuries. Sculpture may also incorporate silver, gold, bronze, gesso, vegetal ivory (tagua), ivory, porcelain, glass eyes, or human hair. Quito School artists produced the finest and most sought-after sculpture in Colonial period Latin America. Quito School 18th-century sculptures are the most famous, including works by Manuel Chili, also known as Caspicara. Examples of ethnological sculpture covered in the Agreement include, but are not limited to, the following objects:

1. Ecclesiastical statues—Ecclesiastical statues carved in wood represent virgins, saints, crucified Christ, baby Jesus, angels and archangels, and figures for nativity scenes. The images are usually life-size. Most statues include the body, face, hands, and clothing sculpted in wood. To give the flesh a luminescent, life-like appearance, artists used the technique of encarnación, a process of painting, varnishing, and sanding the sculpture several times. Clothing is decorated in high relief using techniques such as graffito and estofado that includes layering of paint, lacquer, and gold or silver leaf. Other statues include only carved face and hands attached to a simple wood frame that is covered in robes made from fabric, brocade, or cloth stiffened with gum or paste. Most statues have silver accessories; in the case of the Virgin Mary, these accessories may be halos or coronas, small hearts crossed by a dagger, or earrings or other jewelry.

2. Ecclesiastical relief carvings—Low reliefs or nearly flat sculptures depict saints.

3. Portable altars or triptychs—Small altars of gilded wood or different-colored wood close like boxes, and smaller religious sculptures are stored inside.

C. Furniture

Colonial period ecclesiastical furniture was created by teams of designers, carpenters, cabinetmakers, and craftspeople specializing in leather, veneers, or inlaid wood. Additionally, these teams of artisans included carvers, weavers, bronze smiths, locksmiths, and artistic blacksmiths. Examples of ecclesiastical ethnological furniture covered in the Agreement include, but are not limited to, the following objects:

1. Altarpieces or retablos—Elaborate ornamental structures placed behind the altar include attached paintings, sculptures, or other religious objects.

2. Reliquaries and coffins—Containers made from wood, glass, or metal hold and exhibit sacred objects or human remains.

3. Church furnishings—Furnishings used for liturgical rites include pulpits, tabernacles, lecterns, confessionals, pews, choir stalls, chancels, baldachins, and palanquins.

D. Metalwork

Colonial period ecclesiastical objects made of silver, gold, and other metals were crafted in silversmiths' workshops for use in religious ceremonies. Designs relate to the Eucharist, such as the Lamb of God, a fish, a dove, a cross, fruit, and vine leaves. These ecclesiastical metal objects incorporate precious stones and jewels. Examples of ecclesiastical ethnological metalwork covered in the Agreement include, but are not limited to, the following objects:

1. Sacred vessels—Pyxes, goblets, chalices, and patens were commonly used for religious ceremonies. Urns and custodia (monstrances) were used to display the communion wafer.

2. Altar furnishings—Candlesticks, candelabra, and processional or stationary crosses were used in religious ceremonies. Decorative plaques were affixed to altars.

3. Statue accoutrements—Crowns, radiations, wings, garment pins, and jewelry adorned many ecclesiastical statues.

E. Textiles

Textiles used to perform religious services are often made from fine cotton or silk and may be embroidered with metallic or silk thread, brocades, prints, lace, fabrics, braids, and bobbin lace. Examples of textiles covered in the Agreement include, but are not limited to, the following objects:

1. Religious vestments—Garments worn by the priest and/or other ecclesiastics include cloaks, tunics, surplices, chasubles, dalmatics, albs, amices, stoles, maniples, cinctures, rochets, miters, bonnets, and humeral veils complemented by the so-called blancos or “whites.”

2. Coverings and hangings—Textiles used for liturgical celebrations include altar cloths, towels, and tabernacle veils.

F. Documents and Manuscripts

Original handwritten texts or printed texts of limited circulation made during the Colonial period are primarily on paper, parchment, and vellum. They include books, single folios, or collections of related documents bound with string. Documents may contain a wax, clay, or ink seals or stamps denoting a public or ecclesiastical institution. Seals may be affixed to the document or attached with cords or ribbons. Because many of these documents are of institutional or official nature, they may have multiple signatures, denoting scribes, witnesses, and other authorities. Documents are generally written in Spanish, but may be composed in an indigenous language such as Quichua. Examples of ethnological documents and manuscripts covered in the Agreement include, but are not limited to, the following objects:

1. Colonial period ecclesiastical documents and manuscripts—These include religious texts, hymnals, and church records.

2. Colonial period secular documents and manuscripts—These include, but are not limited to, notary documents (e.g., wills, bills of sale, contracts) and documents of the city councils, Governorate of New Castile, Royal Audience of Quito, Viceroyalty of Peru, Viceroyalty of New Granada, or the Council of the Indies.

Inapplicability of Notice and Delayed Effective Date

This amendment involves a foreign affairs function of the United States and is, therefore, being made without notice or public procedure (5 U.S.C. 553(a)(1)). For the same reason, a delayed effective date is not required under 5 U.S.C. 553(d)(3).

Regulatory Flexibility Act

Because no notice of proposed rulemaking is required, the provisions of the Regulatory Flexibility Act (5 U.S.C. 601 et seq.) do not apply.

Executive Orders 12866 and 13771

CBP has determined that this document is not a regulation or rule subject to the provisions of Executive Order 12866 or Executive Order 13771 because it pertains to a foreign affairs function of the United States, as described above, and therefore is specifically exempted by section 3(d)(2) of Executive Order 12866 and section 4(a) of Executive Order 13771.

Signing Authority

This regulation is being issued in accordance with 19 CFR 0.1(a)(1) pertaining to the Secretary of the Treasury's authority (or that of his/her delegate) to approve regulations related to customs revenue functions.

List of Subjects in 19 CFR Part 12

Cultural property, Customs duties and inspection, Imports, Prohibited merchandise, Reporting and recordkeeping requirements.

Amendment to CBP Regulations

For the reasons set forth above, part 12 of title 19 of the Code of Federal Regulations (19 CFR part 12) is amended as set forth below:

PART 12—SPECIAL CLASSES OF MERCHANDISE

1. The general authority citation for part 12 and the specific authority citation for § 12.104g continue to read as follows:

Authority: 5 U.S.C. 301; 19 U.S.C. 66, 1202 (General Note 3(i), Harmonized Tariff Schedule of the United States (HTSUS)), 1624.

* * * * *

Sections 12.104 through 12.104i also issued under 19 U.S.C. 2612;

* * * * *

2. In § 12.104g, the table in paragraph (a) is amended by adding Ecuador to the list in alphabetical order to read as follows:

§ 12.104g Specific items or categories designated by agreements or emergency actions.

(a) * * *

State party | Cultural property | Decision No.
* * * * * * *
Ecuador | Archaeological and ethnological material representing Ecuador's cultural heritage that is at least 250 years old, dating from the Pre-ceramic (approximately 12,000 B.C.), Formative, Regional development, Integration, Inka periods and into the Colonial period to A.D. 1769 | CBP Dec. 20-03.
* * * * * * *

* * * * *

Mark A. Morgan,
Acting Commissioner, U.S. Customs and Border Protection.
Approved: February 11, 2020.
Timothy E. Skud,
Deputy Assistant Secretary, Department of the Treasury.

[FR Doc. 2020-03118 Filed 2-12-20; 4:15 pm]

BILLING CODE 9111-14-P